SECURITIES AND EXCHANGE COMMISSION

[Release No. 34-68519; File No. SR-NASDAQ-2012-143]

Self-Regulatory Organizations; The NASDAQ Stock Market LLC; Notice of Filing and Immediate Effectiveness of a Proposed Rule Change Relating to Extension of the Exchange's Penny Pilot Program and Replacement of Penny Pilot Issues That Have Been Delisted

December 21, 2012.

Correction

In notice document 2012-31462, appearing on pages 136-138 in the issue of Wednesday, January 2, 2013, make the following correction:

On page number 138, in the second column, on the forty-first line, the date reading “January 23, 2012” should read “January 23, 2013”.

[FR Doc. C1-2012-31462 Filed 1-15-13; 8:45 am]

BILLING CODE 1505-01-D